DEPARTMENT OF TRANSPORTATION

Federal Aviation Administration

14 CFR Part 39

[Docket No. 99-NM-348-AD; Amendment 39-11955; AD 2000-22-09]

RIN 2120-AA64

Airworthiness Directives; British Aerospace (Jetstream) Model 4101 Airplanes

AGENCY: Federal Aviation Administration, DOT.

ACTION: Final rule.

SUMMARY: This amendment adopts a new airworthiness directive (AD), applicable to certain British Aerospace (Jetstream) Model 4101 airplanes, that requires inspection of certain components, and corrective action, if necessary. The actions specified by this AD are intended to prevent loosening of the locknut holding the main landing gear (MLG) piston to the ramrod, which could result in detachment of the MLG piston from the ramrod and loss of hydraulic control of the MLG. This action is intended to address the identified unsafe condition.

DATES: Effective December 11, 2000.

The incorporation by reference of certain publications listed in the regulations is approved by the Director of the Federal Register as of December 11, 2000.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain British Aerospace (Jetstream) Model 4101 airplanes was published in the Federal Register on August 29, 2000 (65 FR 52371). That action proposed to require inspection of certain components, and corrective action, if necessary.

Comments

Interested persons have been afforded an opportunity to participate in the making of this amendment. No comments were submitted in response to the proposal or the FAA's determination of the cost to the public.

Conclusion

The FAA has determined that air safety and the public interest require the adoption of the rule as proposed.

Cost Impact

The FAA estimates that 59 airplanes of U.S. registry will be affected by this AD, that it will take approximately 1 work hour per airplane to accomplish the inspection, and that the average labor rate is $60 per work hour. Based on these figures, the cost impact of the inspection on U.S. operators is estimated to be $3,540, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-09 British Aerospace Regional Aircraft [Formerly Jetstream Aircraft Limited; British Aerospace (Commercial Aircraft) Limited]: Amendment 39-11955. Docket 99-NM-348-AD.

Applicability: Model Jetstream 4101 airplanes, certified in any category; on which any APPH main landing gear (MLG) retract actuator having part number AIR86496, any suffix, is installed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent loosening of the locknut holding the MLG piston to the ramrod, which could result in detachment of the MLG piston from the ramrod and loss of hydraulic control of the MLG, accomplish the following:

Inspection and Corrective Actions

(a) Within 18 months after the effective date of this AD: Inspect the airplane records to determine the overhaul status and number of landings on the left and right MLG retract actuators, and inspect the actuators for the presence of ink mark “32-03,” in accordance with Jetstream Service Bulletin J41-32-068, Revision 1, dated May 12, 2000.

(1) If both actuators have been overhauled and ink mark “32-03” is present on each actuator, no further action is required by this AD.

(2) For any actuator that has been overhauled but does not have ink mark “32-03” present on the actuator: Within 2 years after the effective date of this AD, accomplish all applicable corrective actions for that actuator (including inspection of locknut peening, lockwasher replacement, and ink marking), in accordance with Part 3 or Part 4, as applicable, of the Accomplishment Instructions of the service bulletin.

(3) For any actuator that has not been overhauled: Prior to further flight, or prior to the accumulation of 8,000 total landings on that actuator, whichever occurs later, replace the actuator with an overhauled actuator having ink mark “32-03” present, in accordance with Part 1 or Part 2, as applicable, of the Accomplishment Instructions of the service bulletin.

Note 2: Jetstream Service Bulletin J41-32-068, Revision 1, dated May 12, 2000, refers to APPH Service Bulletin AIR86496-32-03, Revision 2, dated March 2000, as an additional source of service information for the inspection of locknut peening and the lockwasher replacement.

Spares

(b) As of the effective date of this AD, no APPH MLG retract actuator having P/N AIR86496, any suffix, may be installed on any airplane unless the actuator is marked with ink mark “32-03.”

Alternative Methods of Compliance

(c) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Jetstream Service Bulletin J41-32-068, Revision 1, dated May 12, 2000. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directive 007-09-99.

Effective Date

(f) This amendment becomes effective on December 11, 2000.

Issued in Renton, Washington, on October 25, 2000.
Donald L. Riggin,
Acting Manager, Transport Airplane Directorate, Aircraft Certification Service.

[FR Doc. 00-27946 Filed 11-3-00; 8:45 am]

BILLING CODE 4910-13-U